DEPARTMENT OF VETERANS AFFAIRS

Advisory Committee Charter Renewals

AGENCY: Department of Veterans Affairs.

ACTION: Notice of Advisory Committee Charter Renewals.

In accordance with the provisions of the Federal Advisory Committee ACT (FACA) and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
National Research Advisory Council | Provides advice to the Secretary on research and development sponsored and/or conducted by the Veterans Health Administration, to include policies and programs of the Office, Research and Development | May 24, 2017.

The Secretary has also renewed the charter for the following statutorily authorized Federal advisory committee for a two-year period, beginning on the date listed below:

Committee name | Committee description | Charter renewed on
Special Medical Advisory Group | Provides advice to the Secretary and the Under Secretary for Health on matters relating to the care and treatment of Veterans and other matters pertinent to the operations of the Veterans Health Administration, such as research, education, training of health manpower, and VA/DOD contingency planning | June 12, 2017.

For further information contact Jeffrey Moragne, Committee Management Office, Department of Veterans Affairs, Advisory Committee Management Office (00AC), 810 Vermont Avenue NW., Washington, DC 20420; telephone (202) 266-4660; or email at Jeffrey.Moragne@va.gov. To view a copy of a VA Federal advisory committee charter, visit http://www.va.gov/advisory.

Date: July 26, 2017.
Jelessa M. Burney,
Federal Advisory Committee Management Officer.

[FR Doc. 2017-16066 Filed 7-28-17; 8:45 am]

BILLING CODE 8320-01-P